DEPARTMENT OF HOMELAND SECURITY

Federal Emergency Management Agency

[Docket ID FEMA-2023-0002; Internal Agency Docket No. FEMA-B-2323]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before July 3, 2023.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2323, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

Community | Community map repository address
Marquette County, Michigan (All Jurisdictions)
Project: 15-05-1490S Revised Preliminary Date: January 20, 2023
Charter Township of Chocolay | Chocolay Charter Township Hall, 5010 US Highway 41 South, Marquette, MI 49855.
Morrison County, Minnesota and Incorporated Areas
Project: 17-05-1793S Preliminary Date: November 03, 2022
City of Bowlus | City Hall, 212 Main Street, Bowlus, MN 56314.
City of Buckman | Buckman City Hall, 27031 Park Street, Pierz, MN 56364.
City of Elmdale | Elmdale Community Center, 8197 State Highway 238, Bowlus, MN 56314.
City of Genola | Genola City Office, 13883 Highway 25, Pierz, MN 56364.
City of Harding | Harding Community Center, 24599 Quest Road, Pierz, MN 56364.
City of Lastrup | City Hall, 19201 285th Avenue, Lastrup, MN 56344.
City of Little Falls | City Hall, 100 Northeast 7th Avenue, Little Falls, MN 56345.
City of Motley | City Hall, 316 Highway 10 South, Motley, MN 56466.
City of Pierz | City Hall, 101 Main Street South, Pierz, MN 56364.
City of Randall | City Hall, 525 Pacific Avenue, Randall, MN 56475.
City of Royalton | City Hall, 12 North Birch Street, Royalton, MN 56373.
City of Sobieski | Sobieski Community Center, 9092 Cable Road, Little Falls, MN 56345.
City of Swanville | City Hall, 305 DeGraff Avenue, Swanville, MN 56382.
City of Upsala | City Hall, 320 Walnut Avenue, Upsala, MN 56384.
Unincorporated Areas of Morrison County | Morrison County Government Center, 213 1st Avenue Southeast, Little Falls, MN 56345.
Hardin County, Ohio and Incorporated Areas
Project: 17-05-1800S Preliminary Date: April 29, 2022
City of Kenton | City Building, 111 West Franklin Street, Kenton, OH 43326.
Unincorporated Areas of Hardin County | Hardin County Courthouse, Tax Map Department, One Courthouse Square, Suite 150, Kenton, OH 43326.
Village of Ada | Municipal Building, 115 West Buckeye Avenue, Ada, OH 45810.
Village of Alger | Village Office, 207 Angle Street, Alger, OH 45812.
Village of McGuffey | Municipal Building, 404 Courtright Street, McGuffey, OH 45859.
Powhatan County, Virginia (All Jurisdictions)
Project: 20-03-0029S Preliminary Date: May 24, 2022
Unincorporated Areas of Powhatan County | Powhatan County Administration Building, 3834 Old Buckingham Road, Suite F, Powhatan, VA 23139.
Prince William County, Virginia and Incorporated Areas
Project: 14-03-3327S Preliminary Date: August 24, 2022
City of Manassas | Public Works Building, Engineering Department, 8500 Public Works Drive, Manassas, VA 20110.
City of Manassas Park | City Hall, 100 Park Central Plaza, Manassas Park, VA 20111.
Unincorporated Areas of Prince William County | Prince William County Department of Public Works, Environmental Management Division, 5 County Complex Court, Suite 170, Prince William, VA 22192.

[FR Doc. 2023-06833 Filed 4-3-23; 8:45 am]

BILLING CODE 9110-12-P